DEPARTMENT OF THE INTERIOR

Bureau of Ocean Energy Management

[MMAA104000]

Outer Continental Shelf, Gulf of Mexico, Oil and Gas Central Planning Area Lease Sales 241 and 247 and Eastern Planning Area Lease Sale 226

AGENCY: Bureau of Ocean Energy Management (BOEM), Interior.

ACTION: Notice of Availability of a Final Supplemental Environmental Impact Statement.

SUMMARY: BOEM is announcing the availability of a Final Supplemental Environmental Impact Statement (EIS) for the Gulf of Mexico Outer Continental Shelf Oil and Gas Central Planning Area Lease Sales 241 and 247 and Eastern Planning Area Lease Sale 226. The Final Supplemental EIS provides a discussion of potential significant impacts of the proposed actions, provides an analysis of reasonable alternatives to the proposed actions, and identifies the Bureau's preferred alternatives. This Final Supplemental EIS updates the environmental and socioeconomic analyses for proposed CPA and EPA sales evaluated in the following EISs:

• Gulf of Mexico OCS Oil and Gas Lease Sales: 2012-2017; Western Planning Area Lease Sales 229, 233, 238, 246, and 248; Central Planning Area Lease Sales 227, 231, 235, 241, and 247, Final Environmental Impact Statement (OCS EIS/EA BOEM 2012-019) (2012-2017 WPA/CPA Multisale EIS);

• Gulf of Mexico OCS Oil and Gas Lease Sales: 2013-2014; Western Planning Area Lease Sale 233; Central Planning Area Lease Sale 231, Final Supplemental Environmental Impact Statement (OCS EIS/EA BOEM 2013-0118) (WPA 233/CPA 231 Supplemental EIS);

• Gulf of Mexico OCS Oil and Gas Lease Sale: 2015-2017; the Gulf of Mexico OCS Oil and Gas Lease Sales: 2014 and 2016, Eastern Planning Area Lease Sales 225 and 226, Final Environmental Impact Statement (OCS EIS/EA BOEM 2013-200) (EPA 225/226 EIS); and

• Central Planning Area Lease Sales 235, 241, and 247; Draft Supplemental Environmental Impact Statement (OCS EIS/EA BOEM 2014-010) (CPA 235, 241 and 247 Supplemental EIS).

The Final Supplemental EIS is available on the Bureau's Web site at http://www.boem.gov/nepaprocess/. BOEM will distribute primarily digital copies of the Final Supplemental EIS on compact discs. You may request a paper copy, compact disc, or the location of a library with a digital copy of the Final Supplemental EIS from BOEM, Gulf of Mexico OCS Region, Public Information Office (GM 250C), 1201 Elmwood Park Boulevard, Room 250, New Orleans, Louisiana 70123-2394 (1-800-200-GULF).

FOR FURTHER INFORMATION CONTACT: Mr. Gary D. Goeke, BOEM, Gulf of Mexico OCS Region, Office of Environment (GM 623E), 1201 Elmwood Park Boulevard, New Orleans, Louisiana 70123-2394 or by email at cpa241-epa226@boem.gov. You may also contact Mr. Goeke by telephone at 504-736-3233.

Authority: This NOA is published pursuant to the National Environmental Policy Act of 1969, as amended (42 U.S.C. 4321 et seq.), and the Department of the Interior's NEPA implementing regulations at 43 CFR 46.415.

Dated: August 3, 2015.
Abigail Ross Hopper,
Director, Bureau of Ocean Energy Management.

[FR Doc. 2015-22055 Filed 9-3-15; 8:45 am]

BILLING CODE 4310-MR-P